DEPARTMENT OF DEFENSE

Department of the Air Force

Intent To Grant an Exclusive Patent License

AGENCY: Department of the Air Force, DoD.

ACTION: Notice.

SUMMARY: Pursuant to the provisions of Part 404 of Title 37, code of Federal Regulations, which implements Public Law 96-517, as amended, the Department of the Air Force announces its intention to grant Hetero Technology Integration Solutions, Incorporated (HTiS), a corporation of New Hampshire, having a place of business at Newburyport, Massachusetts, an exclusive license in any right, title and interest the Air Force has in:

a. U.S. Patent No. 5,472,914 issued 5 Dec 95, entitled “Wafer Joined Optoelectronic Integrated Circuits and Method,” Serial No. 274,882 and filed 14 Jul 94, by Eric A. Martin, Kenneth Vaccaro, Joseph P. Lorenzo, and Andrew Davis;

b. U.S. Patent No. 5,557,120 issued 17 Sep 96, entitled “Wafer Joined Optoelectronic Integrated Circuits,” Serial No. 443,915 and filed 17 May 95, by Eric A. Martin, Kenneth Vaccaro, Joseph P. Lorenzo, and Andrew Davis;

c. U.S. Patent No. 5,639,673 issued 17 Jun 97, entitled “Transparent Ohmic Contacts for Schottky Diode Optical Detectors on Thin and Inverted Epitaxial Layers,” Serial No. 486,442 and filed 8 Jun 95, by Kenneth Vaccaro, Eric A. Martin, Stephen Spaziani, and Andrew Davis; and

d. U.S. Patent No. 5,689,125 issued 18 Nov 97, entitled “Cadmium Sulfide Interface Layers for Improving III-V Semiconductor Device Performance and Characteristics,” Serial No. 489,601 and filed 12 Jun 95, by Kenneth Vaccaro, Andrew Davis, Helen M. Dauplaise, and Joseph P. Lorenzo.

DATES: A license for this patent will be granted unless a written objection is received within fifteen (15) days from the date of publication of this Notice.

FOR FURTHER INFORMATION CONTACT: Contact Mr. William H. Anderson, Associate General Counsel (Acquisition), SAF/GCQ, 1500 Wilson Blvd., Suite 304 Arlington, VA 22209-2310. Mr. Anderson can be reached at (Telephone) 703-588-5090/5091 or (Fax) 703-588-8037.

Bao-Anh Trinh,
Air Force Federal Liaison Officer.

[FR Doc. E6-5543 Filed 4-13-06; 8:45 am]

BILLING CODE 5001-05-P